DEPARTMENT OF DEFENSE

Defense Acquisition Regulations System

48 CFR Parts 204, 205, 209, 225, 241, and 244

Defense Federal Acquisition Regulation Supplement (DFARS); Technical Amendments

AGENCY: Defense Acquisition Regulations System, Department of Defense (DoD).

ACTION: Final rule.

SUMMARY: DoD is making technical amendments to the Defense Federal Acquisition Regulation Supplement (DFARS) to specify the debarring and suspending official for the Defense Intelligence Agency and update other references within the DFARS text.

DATES: Effective Date: October 15, 2009

FOR FURTHER INFORMATION CONTACT: Ms. Amy Williams, OUSD (AT&L) DPAP (DARS), IMD 3D139, 3062 Defense Pentagon, Washington, DC 20301-3062. Telephone 703-602-0328; facsimile 703-602-7887.

SUPPLEMENTARY INFORMATION:

A. Background

This final rule amends DFARS text as follows:

204.7107. Adds a pointer to the procedures on agency accounting identifiers in the DFARS companion resource, Procedures, Guidance, and Information.

205.301. Corrects the cross-reference to the exception for acquisitions of chemical warfare protective clothing from the restrictions on food, clothing, fabrics, and hand or measuring tools at 225.7002 and revises the cross-reference to the definition of “qualifying country.”

209.403. Specifies the debarring and suspending official for the Defense Intelligence Agency.

225.7002-2. Revises the cross-reference to the definition of “qualifying country.”

241.103. Correct the statutory reference to 10 U.S.C. 2688(d)(2).

244.403. Correct the reference to the current specialty metals clause, 252.225.7009, Restriction on Acquisition of Certain Articles Containing Specialty Metals.

List of Subjects in 48 CFR Parts 204, 205, 209, 225, 241, and 244

Government procurement.

Amy G. Williams,
Editor, Defense Acquisition Regulations System.

Therefore, 48 CFR parts 204, 205, 209, 225, 241, and 244 are amended as follows:

1. The authority citation for 48 CFR parts 204, 205, 209, 225, 241, and 244 continues to read as follows:

Authority: 41 U.S.C. 421 and 48 CFR chapter 1.

PART 204—ADMINISTRATIVE MATTERS

2. Section 204.7107 is revised to read as follows:

204.7107 Contract accounting classification reference number (ACRN) and agency accounting identifier (AAI).

Traceability of funds from accounting systems to contract actions is accomplished using ACRNs and AAIs. Follow the procedures at PGI 204.7107 for use of ACRNs and AAIs.

PART 205—PUBLICIZING CONTRACT ACTIONS

3. In section 205.301, paragraph (a)(iii)(b) is revised to read as follows:

205.301 General.

(a) * * *

(iii) * * *

(B) “The exception at DFARS 225.7002-2(n) applies to this acquisition, because the contracting officer has determined that this acquisition of chemical warfare protective clothing furthers an agreement with a qualifying country identified in DFARS 225.003(10).”

PART 209—CONTRACTOR QUALIFICATIONS

4. Section 209.403 is amended by revising paragraph (1) of the definition for “debarring and suspending official to read as follows:

209.403 Definitions.

“Debarring and suspending official.” (1) For DoD, the designees are—

Army—Commander, U.S. Army Legal Services Agency

Navy—The General Counsel of the Department of the Navy

Air Force—Deputy General Counsel (Contractor Responsibility)

Defense Advanced Research Projects Agency—The Director

Defense Information Systems Agency—The General Counsel

Defense Intelligence Agency—The Senior Procurement Executive

Defense Logistics Agency—The Special Assistant for Contracting Integrity

National Geospatial—Intelligence Agency—The General Counsel

Defense Threat Reduction Agency—The Director

National Security Agency—The Senior Acquisition Executive

Missile Defense Agency—The General Counsel

Overseas installations—as designated by the agency head

* * * * *

PART 225—FOREIGN ACQUISITION

225.7002-2 [Amended]

5. Section 225.7002-2 is amended by removing the reference to “225.872” in paragraph (n) and adding in its place a reference to “225.003(10)”.

PART 241—ACQUISITION OF UTILITY SERVICES

241.103 [Amended]

6. Section 241.103 is amended by removing from paragraph (1) the statutory reference “10 U.S.C. 2688(c)(3)” and adding in its place the statutory reference “10 U.S.C. 2688(d)(2)”.

PART 244—SUBCONTRACTING POLICIES AND PROCEDURES

7. Section 244.403(1) is revised to read as follows:

244.403 Contract clause.

* * * * *

(1) 252.225-7009, Restriction on Acquisition of Certain Articles Containing Specialty Metals.

* * * * *

[FR Doc. E9-24843 Filed 10-14-09; 8:45 am]

BILLING CODE 5001-08-P